SMALL BUSINESS ADMINISTRATION

[Declaration of Disaster #3576; Amdt. #1]

State of Missouri

The above-numbered declaration is hereby amended to change the declaration number for the contiguous State of Kansas to 358406.

All other information remains the same, i.e., the deadline for filing applications for physical damage is July 26, 2004, and for economic injury the deadline is February 26, 2005.

(Catalog of Federal Domestic Assistance Program Nos. 59002 and 59008)

Dated: June 4, 2004.
Hector V. Barreto,
Administrator.

[FR Doc. 04-13182 Filed 6-9-04; 8:45 am]

BILLING CODE 8025-01-P